INTERNATIONAL TRADE COMMISSION

[Investigation Nos. 701-TA-470-471 and 731-TA-1169-1170 (Second Review)]

Certain Coated Paper Suitable for High-Quality Print Graphics Using Sheet-Fed Presses From China and Indonesia

Determination

On the basis of the record ¹ developed in the subject five-year reviews, the United States International Trade Commission (“Commission”) determines, pursuant to the Tariff Act of 1930 (“the Act”), that revocation of the countervailing and antidumping duty orders on certain coated paper suitable for high-quality print graphics using sheet-fed presses from China and Indonesia would be likely to lead to continuation or recurrence of material injury to an industry in the United States within a reasonably foreseeable time.

¹ The record is defined in § 207.2(f) of the Commission's Rules of Practice and Procedure (19 CFR 207.2(f)).

Background

The Commission instituted these reviews on December 1, 2021 (86 FR 68272) and determined on March 7, 2022, that it would conduct expedited reviews (87 FR 22231, April 14, 2022).

The Commission made these determinations pursuant to section 751(c) of the Act (19 U.S.C. 1675(c)). It completed and filed its determinations in these reviews on June 2, 2022. The views of the Commission are contained in USITC Publication 5330 (June 2022), entitled Certain Coated Paper Suitable for High-Quality Print Graphics Using Sheet-Fed Presses from China and Indonesia (Inv. Nos. 701-TA-470-471 and 731-TA-1169-1170 (Second Review)).

By order of the Commission.
Issued: June 2, 2022.
Lisa Barton,
Secretary to the Commission.

[FR Doc. 2022-12202 Filed 6-6-22; 8:45 am]

BILLING CODE 7020-02-P